NUCLEAR REGULATORY COMMISSION

10 CFR Part 72

[NRC-2024-0034]

RIN 3150-AL07

List of Approved Spent Fuel Storage Casks: NAC International, Inc., NAC-UMS Universal Storage System, Certificate of Compliance No. 1015, Renewal of Initial Certificate and Amendment Nos. 1 Through 9

AGENCY: Nuclear Regulatory Commission.

ACTION: Direct final rule; confirmation of effective date.

SUMMARY: The U.S. Nuclear Regulatory Commission (NRC) is confirming the effective date of July 15, 2024, for the direct final rule that was published in the Federal Register on April 29, 2024. This direct final rule amended the initial certificate and Amendment Nos. 1 through 9 of Certificate of Compliance No. 1015 for the NAC International, Inc., NAC-UMS Universal Storage System.

DATES: Effective date: The effective date of July 15, 2024, for the direct final rule published April 29, 2024 (89 FR 33184), is confirmed.

ADDRESSES: Please refer to Docket ID NRC-2024-0034 when contacting the NRC about the availability of information for this action. You may obtain publicly available information related to this action by any of the following methods:

• Federal Rulemaking Website: Go to https://www.regulations.gov and search for Docket ID NRC-2024-0034. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The renewal of Certificate of Compliance No. 1015 and associated changes to the technical specifications, and final safety evaluation report are available in ADAMS under Accession ML24151A008.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Christopher Markley, Office of Nuclear Material Safety and Safeguards; telephone: 301-415-6293, email: Christopher.Markley@nrc.gov and Greg Trussell, Office of Nuclear Material Safety and Safeguards, telephone: 301-415-6244, email: Gregory.Trussell@nrc.gov. Both are staff of the U.S. Nuclear Regulatory Commission, Washington, DC 20555-0001.

SUPPLEMENTARY INFORMATION: On April 29, 2024 (89 FR 33184), the NRC published a direct final rule amending its regulations in part 72 of title 10 of the Code of Federal Regulations to the NAC International, Inc., NAC-UMS Universal Storage System listing within the “List of approved spent fuel storage casks” to renew, for an additional 40 years, the initial certificate and Amendment Nos. 1 through 9 of Certificate of Compliance No. 1015. In the direct final rule, the NRC stated that if no significant adverse comments were received, the direct final rule would become effective on July 15, 2024. The NRC did not receive any comments on the direct final rule. Therefore, this direct final rule will become effective as scheduled.

Dated: June 13, 2024.
For the Nuclear Regulatory Commission.
Cindy K. Bladey,
Chief, Regulatory Analysis and Rulemaking Support Branch, Division of Rulemaking, Environmental, and Financial Support, Office of Nuclear Material Safety and Safeguards.

[FR Doc. 2024-13356 Filed 6-17-24; 8:45 am]

BILLING CODE 7590-01-P